OFFICE OF PERSONNEL MANAGEMENT

Notice of Submission for a New Information Collection Common Form: Personnel Vetting Questionnaire

AGENCY: Office of Personnel Management.

ACTION: 30-Day notice and request for comments.

SUMMARY: The Office of Personnel Management (OPM) is notifying the general public and other Federal agencies that OPM proposes to request the Office of Management and Budget (OMB) approve a new information collection request (ICR) titled Personnel Vetting Questionnaire (PVQ). The proposed information collection will streamline multiple existing information collections, as well as the renewal cycle for them, commensurate with on-going efforts to improve personnel vetting processes and the experience of individuals undergoing personnel vetting. OPM is proposing to discontinue the information collections for OMB control numbers 3206-0261, 3206-0258, and 3206-0005 as these information collections will become parts of the new Personnel Vetting Questionnaire information collection and assigned a new OMB control number.

DATES: Comments are encouraged and will be accepted until March 30, 2023.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: A copy of this ICR, with applicable supporting documentation, may be obtained by email to SuitEAforms@opm.gov, or by contacting Alexys Stanley, 202-606-1800, or U.S. Office of Personnel Management, Suitability Executive Agent Programs, P.O. Box 699, Slippery Rock, PA 16057.

SUPPLEMENTARY INFORMATION:

This notice announces that OPM has submitted to OMB a request for approval of a new information request, Personnel Vetting Questionnaire (PVQ) (OMB No. 3206-XXXX). The information collection (OMB No. 3206-XXXX) was previously published in the Federal Register on November 23, 2022 at 87 FR 71700, allowing for a 60-day public comment period (“60-day Notice”). OPM received approximately 280 comments from 55 commenters in response to its request for this collection, which are addressed in the Supplemental Statement of this ICR package. The purpose of this notice is to allow an additional 30 days for public comments. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Background

On November 23, 2022, OPM published 87 FR 71700 requesting comment for the new PVQ information collection. OPM received 55 submissions (5 of which were duplicate submissions) containing approximately 280 comments. Multiple comments were received on the following topics:

• Collection of sex or gender information

• Collection of information regarding past use of marijuana

• Consolidation of multiple vetting questionnaires into the PVQ

• Collection and adjudication of information regarding mental health

• Collection and adjudication on foreign contacts and interests

In addition, multiple comments requested minor edits to the proposed questions for clarity or to correct formatting or punctuation. Finally, a number of comments addressed Federal policies and fell outside the scope of comment on the proposed information collection. All comments received are addressed in a spreadsheet included as supporting documentation in the ICR package.

Comments Regarding Collection of Sex and Gender Information

Unlike the current investigative questionnaires, the PVQ will not require the respondent to indicate “Male” or “Female,” and the PVQ uses gender inclusive terminology, such as parent and sibling, rather than terms that are not gender inclusive, such as mother, father, sister, brother. Eight of eleven comments received regarding OPM's approach to collection of information about sex and gender favored the approach. OPM received three comments opposing OPM's proposal to eliminate the requirement to indicate “male” or “female.” One commenter was concerned about the impact on data checks. OPM previously addressed this potential concern in the 60-day Notice. Another commenter expressed concern that the proposed collection does not require individuals to report transition as, in their opinion, it “could be exploited.” Another commenter asserted that higher rates of depression in the LGBTQ population are a reason to exclude them from the candidate pool. OPM did not make changes to the proposed collection in response to these comments. As noted in 60-day Notice regarding the proposed information collection, the Federal Government is actively taking “steps to mitigate any barriers in security clearance and background investigation processes for LGBTQ+ employees and applicants, in particular transgender and gender non-conforming and non-binary employees and applicants,” per Executive Order (E.O.) 14035, Diversity, Equity, Inclusion, and Accessibility in the Federal Workforce. Further, it is the U.S. Government's longstanding position that a diagnosis of a mental health condition, in and of itself, is not a reason to revoke or deny eligibility for access to classified information or for holding a sensitive position, suitability or fitness to obtain or retain Federal or contract employment, or eligibility for physical or logical access to federally controlled facilities or information systems. An employee-led organization affiliated with a Federal agency requested that OPM provide individuals the option to indicate their pronouns on the form. In response to this comment, OPM added the option for respondents to provide their pronouns if they wish. OPM added this option in order to facilitate interaction between investigators and those undergoing the personnel vetting process and to prevent unintentional misgendering.

Collection of Information Regarding Past Use of Marijuana

Nine comments were received that expressed support for OPM's approach in separating questions regarding marijuana use from those regarding other controlled substances and limiting the timeframe for reporting past use of marijuana. Of these, six comments recommended OPM further limit or eliminate inquiry regarding marijuana use. Five comments opposed OPM's approach. OPM did not change its approach to the collection of information regarding use of marijuana as a result of the comments received. As OPM explained in the 60-day Notice, the proposed PVQ takes into account changes in the legal landscape and societal norms regarding marijuana use. OPM concurs with one of the commenters who fully supported the new approach and stated: “The PVQ should reflect that because most Americans live in states where marijuana is legal, they should not be prevented from serving in the Federal Government. By only asking about marijuana use in the last 90-days (as opposed to last 7 years), the PVQ will greatly expand the pool of candidates available for Federal employment. [. . .] OPM has a duty to ensure that the Federal Government workforce accurately represents America.”

Consolidation of Multiple Questionnaires into the PVQ

As noted in the 60-day Notice, the PVQ will consolidate the following ICRs: Office of Management and Budget (OMB) No. 3206-0261 Questionnaire for Non-Sensitive Positions (SF 85), OMB No. 3206-0258 Questionnaire for Public Trust Positions and Supplemental Questionnaire for Selected Positions (SF 85P and SF 85P-S), and OMB No. 3206-0005 Questionnaire for National Security Positions (SF 86) into one comprehensive information collection, consisting of four parts. Individual respondents will be asked to complete only the parts that are appropriate to the risk and sensitivity of their position, also known as their position designation, as directed by the Federal agency requesting their background investigation consistent with guidance issued by OPM and the Office of the Director of National Intelligence as the Suitability and Credentialing Executive Agent and the Security Executive Agent, respectively. OPM received five comments in support of this approach and none opposed.

Collection and Adjudication of Information Regarding Mental Health

OPM received two comments recommending expansion of the list of reportable mental health diagnoses. One commenter questioned why “major depressive or anxiety orders” are not included in the PVQ. Another suggested that individuals with depression should be investigated to determine the depth of their condition. OPM did not make changes to the proposed PVQ as a result of these comments. As explained in the 60-day Notice, while the intent of questioning about psychological and emotional conditions has always been to surface any concerns regarding the individual's judgment or reliability, the approach has shifted from asking about all mental health treatment or counseling to a more tailored set of questions regarding hospitalization and specific diagnoses. By following this approach, the PVQ seeks to reduce perceived stigma associated with seeking mental health treatment or counseling by limiting the scope of questioning from what was previously asked on the Questionnaire for National Security Positions (SF 86) and the Supplemental Questionnaire for Selected Positions (SF 85P-S).

Collection of Information Regarding Foreign Contacts and Interests

A nonprofit organization encouraged OPM to re-evaluate the questions regarding foreign connections and foreign activities. The organization indicated that these questions have not been updated for decades and do not seem to reflect today's advances in information and technological environment bringing the world closer. The organization opined the effect is that individuals end up collecting and providing information on foreign relationships which are trivial or incidental and not adjudicatively relevant; thus delaying the personnel vetting process by creating additional work for the investigative and adjudicative process. OPM agrees that with today's modern advances individuals have more connections to foreign nationals. In comparison to prior personnel vetting questionnaires, however, the reportable timeframe for many of the questions within this area has been reduced, and the PVQ clarifies the types of associations that must be reported. For example, in collecting the respondent's contacts with foreign nationals, the instructions limit the reporting to foreign nationals with whom they have feelings of affection, a romantic relationship, are bound by social, moral, financial, or legal obligations or with whom they have shared information about themselves that, if known, could be used to influence them to act against the interest of the U.S. government. The clarification in this question helps decrease superfluous reporting of incidental foreign contacts. In response to recommendations from several other commenters, OPM also reduced the scope of questioning regarding whether an individual has lived, worked, or attended school in a foreign country.

Analysis: The following analysis of the burden associated with this information collection is specific to OPM as the agency sponsoring the common form. Other agencies will be required to seek expedited approval to use the common form by submitting their agency-specific burden analyses to OMB.

Agency: Office of Personnel Management.

Title: Personnel Vetting Questionnaire.

OMB Number: 3206-XXXX.

Frequency: On occasion.

Affected Public: Individuals or Households.

Number of Respondents: 319.

Estimated Time per Respondent: 140 minutes.

Total Burden Hours: 780 hours.

U.S. Office of Personnel Management.
Stephen Hickman,
Federal Register Liaison.

[FR Doc. 2023-04106 Filed 2-27-23; 8:45 am]

BILLING CODE 6325-66-P